DEPARTMENT OF AGRICULTURE

Forest Service

Manti-La Sal National Forest, Utah, EIS for Oil and Gas Leasing

AGENCY: Forest Service, USDA, and Bureau of Land Management, USDI.

ACTION: Notice of intent to prepare an environmental impact statement.

SUMMARY: The Manti-La Sal National Forest gives notice of the intent to prepare an environmental impact statement (EIS) to document the analysis and disclose the environmental and human effects of oil and gas leasing on lands administered by the Manti-La Sal National Forest. The Federal Onshore Oil and Gas Leasing Reform Act of 1987 (FOOGLRA) requires the Forest Service to evaluate National Forest System (NFS) lands for potential oil and gas leasing.

As the agency responsible for lease issuance and administration, the Bureau of Land Management (BLM) will participate as a cooperating agency.

DATES: Comments concerning the scope of the analysis should be received by September 10, 2007, to be most helpful. The draft environmental impact statement is scheduled for completion by the spring of 2008, and the final environmental impact statement is scheduled for completion by the fall of 2008.

ADDRESSES: Send written comments to: Dale Harber, Oil and Gas Team Leader, Manti-La Sal National Forest, 599 West Price River Drive, Price, UT 84501; phone (435) 636-3548; fax (435) 637-4940; email comments-intermtn-manti-lasal@fs.fed.us. Please include “Oil and Gas Leasing Analysis Project” on the subject line.

FOR FURTHER INFORMATION CONTACT: Ann King, Public Affairs Officer, Manti-La Sal National Forest, 599 West Price River Drive, Price, UT 84501; phone (435) 636-3535.

Fore technical information contact Dale Harber, Oil and Gas Team Leader, (435) 636-3548.

SUPPLEMENTARY INFORMATION:

Purpose and Need for Action

FOOGLRA requires the Forest Service to evaluate NFS lands for potential oil and gas leasing and establishes Forest Service consent authority for leasing prior to the BLM offering NFS lands for lease. A leasing EIS was prepared in the early 1990s, with the Record of Decision (ROD) signed January 12, 1993, and a ROD modifying specific aspects of the original ROD signed on January 4, 1994. Due to the length of time since the last EIS was prepared and the increased interest by the industry due to the increased demand for oil and gas, high prices, and discoveries of oil and gas reserves in nearby areas with similar geologic conditions, it is now time to prepare an updated EIS to continue leasing. The BLM Utah State Office has received, and continues to receive, numerous Expressions of Interest for leasing portions of the Manti-La Sal Natioal Forest.

Proposed Action

The Forest Supervisor of the Manti-La Sal National Forest and the Utah State Director, Bureau of Land Management, propose to conduct that analysis and decide which lands to make available for oil and gas leasing. The analysis area includes all NFS lands administered by the Manti-La Sal National Forest. As part of the analysis, the Forest Service will identify those areas that would be available for leasing subject to the terms and conditions of the standard oil and gas lease form, or the use of lease stipulations such as those prohibiting surface occupancy. The analysis will also: (1) Identify alternatives to the proposed action, including that of not allowing leasing (no action), (2) project the type/amount of post-leasing activity that is reasonably foreseeable, and (3) analyze the reasonably foreseeable impacts of projected post-leasing activity [36 CFR 228.102(c)].

Possible Alternatives

All alternatives studied in detail must fall within the scope of the purpose and need for action and will generally tier to and comply with the Manti-La Sal Forest Plan. Law requires evaluation of a “no action alternative”. Under the No Action/No Lease alternative, no additional oil and gas leasing would occur. Alternatives to be evaluated would range from the No Action/No Lease alternative (most restrictive) to the Standard Lease Terms alterative (least restrictive) where all lands legally open to leasing would be made administratively available for leasing with only the standard BLM terms and conditions contained on BLM Lease Form 3100-11. Other alternatives which fall somewhere between the No Action/No Lease alternative and Lease with Standard Terms alternative would also be developed and evaluated, which would involve making some lands unavailable for leasing and other lands available for leasing with stipulations for the protection of other resources and interests.

The Forest is expecting that the public input will generate either thematic concerns or area-specific issues that may be addressed by modifying the proposed action to create a new alternative or alternatives.

Lead and Cooperating Agencies

The Forest Service is the lead agency. The Bureau of Land Management will participate as a cooperating agency.

Responsible Officials

Rodney L. Player, Forest Supervisor, Manti-La Sal National Forest, 599 West Price River Drive, Price, UT 84501.

Selma Sierra, Utah State Director, Bureau of Land Management, 440 West 200 South, Suite 500, Salt Lake City, UT 84145.

Nature of Decision to be Made

The Forest Supervisor, Manti-La Sal National Forest, will decide which lands administered by the Manti-La Sal National Forest will be administratively available for oil and gas leasing, along with associated conditions or constraints for the protection of non-mineral interests [36 CFR 228.102(d)]. The Forest Supervisor will also authorize the BLM to offer specific lands for lease, subject to the Forest Service ensuring that the required stipulations are attached to the leases [36 CFR 228.102(e)].

The BLM is responsible for issuing and administration of oil and gas leases under the Mineral Leasing Act of 1920, as amended, and Federal Regulations in 43 CFR 3101.7. The BLM Utah State Director must decide whether or not to offer for lease specific lands authorized for leasing by the Manti-La Sal National Forest and with what stipulations.

Scoping Process

The first formal opportunity to comment on the Manti-La Sal National Forest Oil and Gas Leasing Analysis Project is during the scoping process (40 CFR 1501.7), which begins with the issuance of this Notice of Intent. The Forest Service requests comments on the nature and scope of the environmental, social, and economic issues, and possible alternatives related to oil and gas leasing on lands administered by the Manti-La Sale National Forest. Mail comments to: Dale Harber, Oil and Gas Team Leader, Manti-La Sal National Forest, 599 West Price River Drive, Price, UT 84501.

A series of public meetings are scheduled to describe the proposal and to provide an opportunity for public input. Meetings are planned in Moab, Monticello, Ferron, Ephraim, Price, and Provo, Utah, and Delta, Colorado, in late August and early September. The schedule will be published in the newspapers of record for the Manti-La Sal National Forest Supervisor's Office and the Ranger Districts as soon as it is finalized. Written comments will be accepted at this meetings.

The Forest Service will work with tribal governments to address issues that would significantly or uniquely affect them.

Preliminary Issues

Important goals for the project are to meet the legal requirements for evaluating NFS lands and make the required decisions. The intent of the applicable laws and regulations (see Summary) are to lease appropriate NFS lands and provide a reasonable opportunity to explore for, discover, and produce economic oil and gas reserves from available Federal lands, while meeting the requirements of environmental laws and protection of other resources and interests not compatible with such activities. Issues are anticipated to involve potential effects to wildlife, water, vegetation, recreation, public safety, roadless character, visual resources, cultural and paleontological resources, and social and economic settings. Specific issues will be developed through review of public comments and internal review.

Comment Requested

This Notice of Intent initiates the scoping process which guides the development of the EIS. The Forest has also received substantial input at public meetings held for the Forest Plan revision, including issues relative to mineral exploration and development. Through these efforts the Forest has an understanding of the broad range of perspectives on the resource issues and social values attributed to resource activities on the Manti-La Sal National Forest. Consequently, site-specific comments or concerns are the most important types of information needed for this EIS. Because the Oil and Gas Leasing EIS is a stand-alone document, only public comment letters which address relevant issues and concerns will be considered and formally addressed in an appendix in the EIS.

Early Notice of Importance of Public Participation in Subsequent Environmental Review

A draft environmental impact statement will be prepared for comment. The comment period on the draft environmental impact statement is expected to be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by providing comments during the scoping comment period and during the comment period following the release of the draft EIS so that substantive comments and objections are made available to the Forest Service at a time when it can meaningfully consider them and respond to them in the final environmental impact statement.

To assist the Forest Service in identifying and considering issues and concerns on the proposed action, comments should be as specific as possible. Reviewers may wish to refer to the Council on Environmental Quality Regulations for implementing the procedural provisions of the National Environmental Policy Act at 40 CFR 1503.3 in addressing their points.

Comment received, including the names and addresses of those who comments, will be considered part of the public record on this proposal and will be available for public inspection.

(Authority: 40 CFR 1501.7 and 1508.22; Forest Service Handbook 1909.15, Section 21.)
Dated: July 26, 2007.
Rodney L. Player,
Forest Supervisor, Manti-La Sal National Forest.

[FR Doc. 07-3743 Filed 8-2-07; 8:45 am]

BILLING CODE 3410-11-M